DEPARTMENT OF COMMERCE

International Trade Administration

[A-570-884]

Antidumping Duty Order: Certain Color Television Receivers From the People's Republic of China

AGENCY: Import Administration, International Trade Administration, Department of Commerce.

SUMMARY: Pursuant to section 736(a) of the Tariff Act of 1930, as amended, the Department of Commerce is issuing an antidumping duty order on certain color television receivers from the People's Republic of China.

DATES: Effective Date: June 3, 2004.

FOR FURTHER INFORMATION CONTACT: Irina Itkin or Elizabeth Eastwood, Office of AD/CVD Enforcement, Office 2, Import Administration, International Trade Administration, U.S. Department of Commerce, 14th Street and Constitution Avenue, NW., Washington, DC 20230; telephone (202) 482-0656 or (202) 482-3874, respectively.

SUPPLEMENTARY INFORMATION:

Scope of Order

For purposes of this order, the term “certain color television receivers” (CTVs) includes complete and incomplete direct-view or projection-type cathode-ray tube color television receivers, with a video display diagonal exceeding 52 centimeters, whether or not combined with video recording or reproducing apparatus, which are capable of receiving a broadcast television signal and producing a video image. “Incomplete” CTVs are defined as unassembled CTVs with a color picture tube (i.e., cathode ray tube), printed circuit board or ceramic substrate, together with the requisite parts to comprise a complete CTV, when assembled. Specifically excluded from this order are computer monitors or other video display devices that are not capable of receiving a broadcast television signal.

The color television receivers subject to this order are currently classifiable under subheadings 8528.12.2800, 8528.12.3250, 8528.12.3290, 8528.12.4000, 8528.12.5600, 8528.12.3600, 8528.12.4400, 8528.12.4800, and 8528.12.5200 of the Harmonized Tariff Schedule of the United States (HTSUS). Although the HTSUS subheading is provided for convenience and customs purposes, the written description of the scope of the order is dispositive, and parts or imports of assemblages of parts that comprise less than a complete CTV.

Antidumping Duty Order

On May 27, 2004, the International Trade Commission (the ITC) notified the Department of Commerce (the Department) of its final determination pursuant to section 735(b)(1)(A)(i) of the Tariff Act of 1930, as amended (the Act), that the industry in the United States producing CTVs is materially injured by reason of less-than-fair-value imports of subject merchandise from the People's Republic of China (PRC). Therefore, in accordance with section 736(a)(1) of the Act, the Department will direct U.S. Customs and Border Protection (CBP) to assess, upon further advice by the Department, antidumping duties equal to the amount by which the normal value of the merchandise exceeds the export price of the merchandise for all relevant entries of CTVs from the PRC. These antidumping duties will be assessed on all unliquidated entries of CTVs from the PRC entered, or withdrawn from the warehouse, for consumption on or after November 28, 2003, the date on which the Department published its Notice of Preliminary Determination of Sales at Less Than Fair Value, Postponement of Final Determination, and Affirmative Preliminary Determination of Critical Circumstances: Certain Color Television Receivers From the People's Republic of China, 68 FR 66800 (Nov. 28, 2003).

Section 733(d) of the Act states that instructions issued pursuant to an affirmative preliminary determination may not remain in effect for more than 4 months except where exporters representing a significant proportion of exports of the subject merchandise extend that 4-month period to not more than 6 months. In this investigation, the 6-month period beginning on the date of the publication of the preliminary determination ends on May 25, 2004. Furthermore, section 737 of the Act states that definitive duties are to begin on the date of publication of the ITC's final injury determination. Therefore, in accordance with section 733(d) of the Act and our practice, we will instruct CBP to terminate the suspension of liquidation and to liquidate, without regard to antidumping duties, unliquidated entries of CTVs from the PRC entered, or withdrawn from warehouse, for consumption on or after May 26, 2004, and before the date of publication of the ITC's final injury determination in the Federal Register. See Notice of Amended Antidumping Duty Orders: Stainless Steel Bar From France, Germany, Italy, Korea, and the United Kingdom, 68 FR 58660, 58661 (Oct. 10, 2003). Suspension of liquidation will continue on or after this date.

On or after the date of publication of the ITC's notice of final determination in the Federal Register, CBP will require, at the same time as importers would normally deposit estimated duties on this merchandise, cash deposits for the subject merchandise equal to the estimated weighted-average antidumping duty margins listed below. The PRC-wide rate applies to all entries of the subject merchandise except for entries from the exporters that are identified individually below.

Manufacturer/Exporter | Weighted-average margin (in percent)
Haier Electric Appliances International Co | 22.94
Hisense Import and Export Co., Ltd | 22.94
Konka Group Company, Ltd | 9.69
Philips Consumer Electronics Co. of Suzhou Ltd | 22.94
Shenzhen Chaungwei-RGB Electronics Co., Ltd | 22.94
Sichuan Changhong Electric Co., Ltd | 26.37
Starlight International Holdings, Ltd | 22.94
Star Light Electronics Co., Ltd | 22.94
Star Fair Electronics Co., Ltd | 22.94
Starlight Marketing Development Ltd. | 22.94
SVA Group Co., Ltd | 22.94
TCL Holding Company Ltd | 21.25
Xiamen Overseas Chinese Electronic Co., Ltd | 5.22
PRC-wide | 78.45

This notice constitutes the antidumping duty order with respect to CTVs from the PRC, pursuant to section 736(a) of the Act. Interested parties may contact the Department's Central Records Unit, Room B-099 of the Main Commerce Building, for copies of an updated list of antidumping duty orders currently in effect.

This order is published in accordance with section 736(a) of the Act and 19 CFR 351.211.

Dated: May 27, 2004.
James J. Jochum,
Assistant Secretary for Import Administration.

[FR Doc. 04-12603 Filed 6-2-04; 8:45 am]

BILLING CODE 3510-DS-P